SECURITIES AND EXCHANGE COMMISSION

Sunshine Act Meeting

FEDERAL REGISTER CITATION OF PREVIOUS ANNOUNCEMENT: (To be published Wednesday, September 26, 2001).

STATUS: Closed meeting.

PLACE: 450 Fifth Street, NW., Washington, DC.

TIME AND DATE OF PREVIOUSLY ANNOUNCED MEETING: Monday, September 24, 2001 at 11:30 a.m.

CHANGE IN THE MEETING: Additional Item.

The following item was added to the closed meeting held on Monday, September 24, 2001: regulatory matter regarding financial institutions.

Commissioner Unger, as duty officer, determined that Commission business required the above change and that no earlier notice thereof was possible.

At times, changes in Commission priorities require alternations in the scheduling of meeting items. For further information and to ascertain what, if any, matters have been added, delegated or postponed, please contact:

The Office of the Secretary (202) 942-7070.

Dated: September 25, 2001.
Jonathan G. Katz,
Secretary.

[FR Doc. 01-24450 Filed 9-26-01; 10:21 am]

BILLING CODE 8010-01-M